DEPARTMENT OF ENERGY

Federal Energy Regulatory Commission

Combined Notice of Filings #2

Take notice that the Commission received the following electric rate filings:

Docket Numbers: ER24-218-000.

Applicants: Calpine Bethlehem, LLC, Calpine Mid-Atlantic Generation, LLC, Calpine Mid Merit, LLC, Calpine Mid-Merit II, LLC, Calpine New Jersey Generation, LLC, Zion Energy LLC.

Description: Calpine Reactive Suppliers One-Time Limited Prospective Waiver Request of the 90-day prior notice requirement in Schedule 2 to the PJM OATT, allowing Information Filing submissions less than 90 days prior to transaction consummation.

Filed Date: 10/19/23.

Accession Number: 20231019-5197.

Comment Date: 5 p.m. ET 11/9/23.

Docket Numbers: ER24-219-000.

Applicants: Pacific Gas and Electric Company.

Description: Petition for Limited Waiver of Pacific Gas and Electric Company.

Filed Date: 10/24/23.

Accession Number: 20231024-5160.

Comment Date: 5 p.m. ET 11/14/23.

Docket Numbers: ER24-221-000.

Applicants: Southwest Power Pool, Inc.

Description: § 205(d) Rate Filing: 1883R13 Evergy Kansas Central, Inc. NITSA NOA to be effective 10/1/2023.

Filed Date: 10/27/23.

Accession Number: 20231027-5026.

Comment Date: 5 p.m. ET 11/17/23.

Docket Numbers: ER24-222-000.

Applicants: Southwest Power Pool, Inc.

Description: § 205(d) Rate Filing: 1895R13 Evergy Kansas Central, Inc. NITSA NOA to be effective 10/1/2023.

Filed Date: 10/27/23.

Accession Number: 20231027-5035.

Comment Date: 5 p.m. ET 11/17/23.

Docket Numbers: ER24-223-000.

Applicants: Southern California Edison Company.

Description: § 205(d) Rate Filing: SCE 2024 RSBAA Update to be effective 1/1/2024.

Filed Date: 10/27/23.

Accession Number: 20231027-5063.

Comment Date: 5 p.m. ET 11/17/23.

Docket Numbers: ER24-224-000.

Applicants: Midcontinent Independent System Operator, Inc.

Description: § 205(d) Rate Filing: 2023-10-27_MISO TOs revisions to Attachment MM to be effective 1/1/2024.

Filed Date: 10/27/23.

Accession Number: 20231027-5071.

Comment Date: 5 p.m. ET 11/17/23.

Docket Numbers: ER24-225-000.

Applicants: PJM Interconnection, L.L.C.

Description: § 205(d) Rate Filing: Original ISA, Service Agreement No. 7123; Queue No. AF2-192 to be effective 9/27/2023.

Filed Date: 10/27/23.

Accession Number: 20231027-5083.

Comment Date: 5 p.m. ET 11/17/23.

Docket Numbers: ER24-226-000.

Applicants: Evergy Missouri West, Inc., Evergy Metro, Inc., Southwest Power Pool, Inc.

Description: § 205(d) Rate Filing: Evergy Missouri West, Inc. submits tariff filing per 35.13(a)(2)(iii: Revisions to Formula Rate Template for the Evergy Companies to be effective 12/27/2023.

Filed Date: 10/27/23.

Accession Number: 20231027-5090.

Comment Date: 5 p.m. ET 11/17/23.

Docket Numbers: ER24-227-000.

Applicants: RPC Power, LLC.

Description: Baseline eTariff Filing: Market-Based Rate Tariff Application to be effective 10/28/2023.

Filed Date: 10/27/23.

Accession Number: 20231027-5099.

Comment Date: 5 p.m. ET 11/17/23.

Docket Numbers: ER24-228-000.

Applicants: South Cheyenne Solar, LLC.

Description: Baseline eTariff Filing: Application for MBR Authority and Initial Baseline Tariff Filing to be effective 12/1/2023.

Filed Date: 10/27/23.

Accession Number: 20231027-5102.

Comment Date: 5 p.m. ET 11/17/23.

Docket Numbers: ER24-228-001.

Applicants: South Cheyenne Solar, LLC.

Description: Tariff Amendment: Amendment to Application for MBR Authority and Initial Baseline Tariff Filing to be effective 12/1/2023.

Filed Date: 10/27/23.

Accession Number: 20231027-5112.

Comment Date: 5 p.m. ET 11/17/23.

Docket Numbers: ER24-229-000

Applicants: Alabama Power Company, Georgia Power Company, Mississippi Power Company.

Description: § 205(d) Rate Filing: Alabama Power Company submits tariff filing per 35.13(a)(2)(iii): Amendment of Americus Solar (Americus Solar II) LGIA to be effective 10/13/2023.

Filed Date: 10/27/23.

Accession Number: 20231027-5103.

Comment Date: 5 p.m. ET 11/17/23.

Docket Numbers: ER24-230-000.

Applicants: New England Power and Light LLC.

Description: Baseline eTariff Filing: Market-Based Rate Tariff Application to be effective 10/28/2023.

Filed Date: 10/27/23.

Accession Number: 20231027-5118.

Comment Date: 5 p.m. ET 11/17/23.

Docket Numbers: ER24-231-000.

Applicants: West Penn Power Company, PJM Interconnection, L.L.C.

Description: § 205(d) Rate Filing: West Penn Power Company submits tariff filing per 35.13(a)(2)(iii): West Penn Power submits Revisions to OATT, Att. H-11A to be effective 10/30/2023.

Filed Date: 10/27/23.

Accession Number: 20231027-5120.

Comment Date: 5 p.m. ET 11/17/23.

Docket Numbers: ER24-232-000.

Applicants: New York Transco, LLC, New York Independent System Operator, Inc.

Description: § 205(d) Rate Filing: New York Transco, LLC submits tariff filing per 35.13(a)(2)(iii): NY Transco 205: Proposed Revisions re: Propel NY Cost Allocation and Containment to be effective 12/26/2023.

Filed Date: 10/27/23.

Accession Number: 20231027-5125.

Comment Date: 5 p.m. ET 11/17/23.

Docket Numbers: ER24-233-000.

Applicants: Progressive Light & Power LLC.

Description: Baseline eTariff Filing: Market-Based Rate Tariff Application to be effective 10/28/2023.

Filed Date: 10/27/23.

Accession Number: 20231027-5128.

Comment Date: 5 p.m. ET 11/17/23.

Docket Numbers: ER24-234-000.

Applicants: Black Hills Colorado Electric, LLC.

Description: Tariff Amendment: Notice of Cancellation of Rate Schedule No. 9 to be effective 1/1/2024.

Filed Date: 10/27/23.

Accession Number: 20231027-5130.

Comment Date: 5 p.m. ET 11/17/23.

Docket Numbers: ER24-235-000

Applicants: Metropolitan Edison Company, PJM Interconnection, L.L.C.

Description: § 205(d) Rate Filing: Metropolitan Edison Company submits tariff filing per 35.13(a)(2)(iii): Met-Ed Amends 10 ECSAs (5435 6048 6150 6292 6297 6300 6301 6302 6336 6351) to be effective 12/31/9998.

Filed Date: 10/27/23.

Accession Number: 20231027-5136.

Comment Date: 5 p.m. ET 11/17/23.

Docket Numbers: ER24-236-000.

Applicants: Midcontinent Independent System Operator, Inc.

Description: § 205(d) Rate Filing: 2023-10-27_Att X NERC Facility Interconnection Studies to be effective 1/1/2024.

Filed Date: 10/27/23.

Accession Number: 20231027-5139

Comment Date: 5 p.m. ET 11/17/23.

Docket Numbers: ER24-237-000.

Applicants: Josco Energy Corp.

Description: Tariff Amendment: Notice of Cancellation of MBR Tariff to be effective 10/28/2023.

Filed Date: 10/27/23.

Accession Number: 20231027-5163.

Comment Date: 5 p.m. ET 11/17/23.

Docket Numbers: ER24-238-000.

Applicants: Josco Energy USA, LLC.

Description: Tariff Amendment: Notice of Cancellation for MBR Tariff to be effective 10/28/2023.

Filed Date: 10/27/23.

Accession Number: 20231027-5166.

Comment Date: 5 p.m. ET 11/17/23.

Docket Numbers: ER24-239-000.

Applicants: Tyr Energy, LLC.

Description: Compliance filing: Tyr Energy Seller Category Status Change to be effective 12/27/2023.

Filed Date: 10/27/23.

Accession Number: 20231027-5220.

Comment Date: 5 p.m. ET 11/17/23.

Take notice that the Commission received the following electric securities filings:

Docket Numbers: ES24-10-000.

Applicants: NorthWestern Corporation.

Description: Application Under Section 204 of the Federal Power Act for Authorization to Issue Securities of NorthWestern Corporation.

Filed Date: 10/25/23.

Accession Number: 20231025-5290.

Comment Date: 5 p.m. ET 11/15/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: October 27, 2023.
Debbie-Anne A. Reese,
Deputy Secretary.

[FR Doc. 2023-24262 Filed 11-2-23; 8:45 am]

BILLING CODE 6717-01-P